DEPARTMENT OF THE INTERIOR

Fish and Wildlife Service

[FWS-R3-ES-2013-N272; FXES11130300000F3-145-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before January 15, 2014.

ADDRESSES: Send written comments by U.S. mail to the Regional Director, Attn: Karl Tinsley, U.S. Fish and Wildlife Service, Ecological Services, 5600 American Blvd. West, Suite 990, Bloomington, MN 55437-1458; or by electronic mail to permitsR3ES@fws.gov.

FOR FURTHER INFORMATION CONTACT: Karl Tinsley, (612) 713-5330.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE21829B.

Applicant: Larisa J. Bishop-Boros, Rochester, NY.

The applicant requests a permit to take (capture and release, with additional authorization for: (a) hibernacula or maternity roost cave entry; (b) salvage dead specimens; (c) capture with harp traps; (d) collection of hair, fecal samples, and wing biopsy punches; and (e) light-tagging) Indiana bats (Myotis sodalis), gray bats (Myotis grisescens), Virginia big-eared bats (Corynorhinus townsendii virginianus), and Ozark big-eared bats (Corynorhinus townsendii ingens) within the States of Alabama, Arkansas, Connecticut, Delaware, Florida, Georgia, Illinois, Indiana, Iowa, Kansas, Kentucky, Maryland, Massachusetts, Michigan, Mississippi, Missouri, Nebraska, New Hampshire, New Jersey, New York, North Carolina, Ohio, Oklahoma, Pennsylvania,, Rhode Island, South Carolina, Tennessee, Texas, Vermont, Virginia, West Virginia, and Wisconsin. Proposed activities are for the recovery and enhancement of survival of the species in the wild.

Permit Application Number: TE62286A.

Applicant: Jason B. Whittle, Cuyahoga Falls, OH.

The applicant requests a permit renewal to take (capture and release, with additional authorization for: (a) Capture with harp trap, and (b) collection of hair, wing biopsy punches, and fungal lift tape and/or swab samples) Indiana bats within the States of Alabama, Arkansas, Illinois, Indiana, Iowa, Kentucky, Michigan, Mississippi, Missouri, North Carolina, Ohio, Oklahoma, South Carolina, and Tennessee. The proposed activity is for the recovery and enhancement of survival of the species in the wild.

Permit Application Number: TE21831B.

Applicant: Katherine L. Caldwell, Ball State University, Muncie, IN.

The applicant requests a permit to take (capture and release, with additional authorization for: (a) Collection of hair, wing biopsy punches and fungal lift tape and/or swab samples; and (b) salvage dead specimens) Indiana bats and Northern long-eared bats (Myotis septentrionalis) on Morgan-Monroe and Yellowwood State Forests in Brown, Monroe, and Morgan Counties, IN. The applicant requests additional authorization to enter winter hibernacula in the State of Illinois. Proposed activities are for the recovery and enhancement of survival of the species in the wild.

Permit Application Number: TE06797A.

Applicant: Rod D. McClanahan, Anna, IL.

The applicant requests a permit renewal to take (capture and release) Indiana bats, gray bats, Virginia big-eared bats, Ozark big-eared bats, and Northern flying squirrel (Glaucomys sabrinus) within the States of Alabama, Arkansas, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. The proposed activities are for the enhancement of survival of the species in the wild.

Permit Application Number: TE06778A.

Applicant: USDA Forest Service, Shawnee National Forest (Rod McClanahan, P.I.), Vienna, IL.

The applicant requests a permit renewal to take (capture and release; salvage dead specimens) Indiana bats and gray bats on federal lands within the States of Illinois, Indiana, Missouri and Ohio. Proposed activities are aimed at enhancement of survival of the species in the wild.

Permit Application Number: TE09947B.

Applicant: Missouri Department of Conservation (David Herzog, P.I.), Jackson, MO.

The applicant requests a permit to take (capture and release) pallid sturgeon (Scaphirhynchus albus) in the Mississippi River Basin, the Middle Mississippi River (MMR, between the confluences of the Missouri and Ohio Rivers, Upper Mississippi River miles 0-200), and the lower Mississippi River (LMR, from the Ohio River Confluence to the tip of the Missouri Bootheel, Lower Mississippi River miles 954-825). Proposed activities are aimed at enhancement of survival of the species in the wild.

Permit Application Number: TE02344A.

Applicant: Mainstream Commercial Divers, Inc. (Donald Fortenbery, P.I.), Murray, KY.

The applicant requests authorization to renew and amend an existing permit to take (capture, handle, conduct tissue sampling, release, and collect dead shells for identification) species of freshwater mussels for the purpose of conducting presence/absence/population surveys and assisting in species recovery efforts. The applicant is requesting authorization to conduct activities within the States of Alabama, Arkansas, Florida, Georgia, Indiana, Illinois, Iowa, Kentucky, Michigan, Minnesota, Mississippi, Missouri, Ohio, Pennsylvania, Tennessee, West Virginia, and Wisconsin for the following species: clubshell (Pleurobema clava), fanshell (Cyprogenia stegaria), fat pocketbook (Potamilus capax), Higgins' eye pearlymussel (Lampsilis higginsii), Northern riffleshell (Epioblasma torulosa rangiana), orange footed pimpleback pearlymussel (Plethobasus cooperianus), pink mucket pearlymussel (Lampsilis orbiculata), purple cat's paw pearlymussel (Epioblasma obliquata obliquata), rayed bean (Villosa fabalis), rough pigtoe (Pleurobema plenum), scaleshell (Leptodea leptodon), sheepnose (Plethobasus cyphyus), snuffbox (Epioblasma triquetra), spectaclecase (Cumberlandia monodonta), white cat's paw pearlymussel (Epioblasma obliquata perobliqua), winged mapleleaf (Quadrula fragosa).

Permit Application Number: TE71821A.

Applicant: David T. Zanatta, Mount Pleasant, MI.

The applicant requests a permit renewal, with amendments, to take (capture and release; temporary holding) the following mussel species: snuffbox, rayed bean, clubshell, and Northern riffleshell. Proposed activities may occur within Michigan, Ohio, and Wisconsin for the purpose of research and enhancement of propagation and survival of the species in the wild.

Permit Application Number: TE73598A.

Applicant: Fowler Ridge Wind Farm LLC, Fowler Ridge II Wind Farm LLC, Fowler Ridge III Wind Farm LLC, Houston, TX.

The applicant requests a permit renewal with amendments to take (capture and release) Indiana bats at Fowler Ridge Wind Farm LCC, Fowler Ridge II Wind Farm LLC, and Fowler Ridge III Wind Farm LCC in Benton County, IN. Proposed activities are aimed at enhancement of survival of the species in the wild.

Permit Application Number: TE62297A.

Applicant: Michael D. Whitby, (USGS Coop Unit—U Nebraska), Lincoln, NE.

The applicant requests a permit to take (capture and release) Indiana bats and gray bats throughout the States of Alabama, Arkansas, Connecticut, Florida, Georgia, Illinois, Indiana, Iowa, Kentucky, Maryland, Michigan, Mississippi, Missouri, New Jersey, New York, North Carolina, Ohio, Oklahoma, Pennsylvania, Tennessee, Vermont, Virginia, and West Virginia. Proposed activities are for the enhancement of survival of the species in the wild.

Permit Application Number: TE194099.

Applicant: Dr. Michael A. Hoggarth, Westerville, OH.

The applicant requests a permit renewal with amendments to take (capture and release) the following mussel species: Clubshell, cracking pearlymussel (Hemistena lata), Cumberland bean (Villosa trabalis), Cumberland combshell (Epioblasma brevidens), Cumberland elktoe (Alasmidonta atropurpurea), Dromedary pearlymussel (Dromus dromas), dwarf wedgemussel (Alasmidonta heterodon), fanshell, fat pocketbook, James spinymussel (Pleurobema collina), littlewing pearlymussel (Pegias fabula), Northern riffleshell (Epioblasma torulosa rangiana), oyster mussel (Epioblasma capsaeformis), orange-footed pimpleback pearlymussel, pink mucket pearlymussel, purple catspaw pearlymussel, Rabbitsfoot (Quadrula cylindrica cylindrica), rayed bean, ring pink, rough pigtoe, scaleshell, sheepnose, slabside pearlymussel (Lexingtonia dolabelloides), spectaclecase, snuffbox, tan riffleshell (Epioblasma florentina walkeri), tubercled blossom (Epioblasma torulosa torulosa), white cat's paw pearlymussel, white wartyback (Plethobasus cicatricosus), and winged mapleleaf. Proposed activities may occur within the States of Kentucky, Indiana, Michigan, New York, Ohio, Pennsylvania, and West Virginia, and are for the enhancement of survival of the species in the wild.

Permit Application Number: TE809630.

Applicant: Dr. Allen Kurta, Ypsilanti, MI.

The applicant requests a permit renewal to take (capture and release) Indiana bats throughout the States of Indiana, Michigan, and Ohio. Proposed activities are for the enhancement of survival of the species in the wild.

Permit Application Number: TE02365A.

Applicant: Lynn W. Robbins, Missouri State University, Springfield, MO.

The applicant requests a permit renewal to take (capture, sample, and release) Indiana bats, gray bats, Ozark big-eared bats, and Northern long-eared bats throughout the range of the species in the States of Alabama, Arkansas, Florida, Georgia, Illinois, Indiana, Iowa, Kansas, Kentucky, Maryland, Michigan, Mississippi, Missouri, Nebraska, New Jersey, New York, North Carolina, Ohio, Pennsylvania, Tennessee, Vermont, Virginia, and West Virginia. Proposed activities are for scientific research, documentation of presence/probable absence of the species, and documentation of habitat use to enhance the recovery and survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: December 3, 2013.
Lynn M. Lewis,
Assistant Regional Director, Ecological Services, Midwest Region.

[FR Doc. 2013-29833 Filed 12-13-13; 8:45 a.m.]

BILLING CODE 4310-55-P